SOCIAL SECURITY ADMINISTRATION

Agency Information Collection Activities: Proposed Request and Comment Request

The Social Security Administration (SSA) publishes a list of information collection packages requiring clearance by the Office of Management and Budget (OMB) in compliance with Public Law 104-13, the Paperwork Reduction Act (PRA) of 1995, effective October 1, 1995. This notice includes an extention and a revision of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974, Email address: OIRA_Submission@omb.eop.gov.

(SSA), Social Security Administration, DCRDP, Attn: Reports Clearance Officer, 107 Altmeyer Building, 6401 Security Blvd., Baltimore, MD 21235, Fax: 410-966-2830, Email address: OPLM.RCO@ssa.gov.

I. The information collection below is pending at SSA. SSA will submit it to OMB within 60 days from the date of this notice. To be sure we consider your comments, we must receive them no later than April 16, 2012. Individuals can obtain copies of the collection instruments by calling the SSA Reports Clearance Officer at 410-965-8783 or by writing to the above email address.

Youth Transition Process Demonstration Evaluation Data Collection—0960-0687

Background

The purpose of the Youth Transition Demonstration (YTD) project is to help young people with disabilities make the transition from school to work. While participating in the project, youth can continue to work or continue their education because SSA waives certain disability program rules and offers services to youth who are receiving disability benefits or have a high probability of receiving them. We are currently implementing YTD projects in three sites across the country. Three other sites completed service delivery and closed. The evaluation will produce empirical evidence on the effects of the waivers and project services including (1) educational attainment, (2) employment, (3) earnings, (4) receipt of benefits by youth with disabilities, and (5) Social Security Trust Fund and Federal income tax revenues. Sections 1110 and 234 of the Social Security Act authorize this project.

Project Description

Given the importance of estimating YTD effects as accurately as possible, we are evaluating the project using rigorous analytic methods based on randomly assigning youth to a treatment or control group. We conducted several data collections. These include: (1) Baseline interviews with youth and their parents or guardians prior to random assignment; (2) follow-up interviews at 12 months after random assignment; (3) interviews and roundtable discussions with local program administrators, program supervisors, and service delivery staff; and (4) focus groups of youths, their parents, and service providers. We are currently collecting follow-up interviews at 36 months after random assignment. We began collecting information for YTD in 2007, and we will conclude data collection for the project in 2013. The respondents are youths with disabilities enrolled in the project; their parents or guardians; program staff; and service providers.

Type of Request: Extension of an existing OMB-approved information collection.

Data collection year | Collection | Number of respondents | Responses per respondent | Average burden per response (hours) | Total response burden (hours)
FY 2012 Data
2012 | 36 Month Follow-up | 364 | 1 | 0.83 | 302
Total |  |  |  |  | 302
Combined Data from 2007-2013
All Years | Baseline | 5,651 | 1 | 0.55 | 3,108
| Informed Consent | 5,651 | 1 | .83 | 469
| 12 Month Follow-up | 4,752 | 1 | .83 | 3,944
| In-depth Interviews | 240 | 1 | .42 | 101
| Focus Group | 440 | 1 | 1.5 | 660
| Program Staff/Service Provider | 192 | 1 | 1 | 192
| 36 Month Follow-up | 3,962 | 1 | .83 | 3,288
Grand Total |  | 20,888 |  |  | 11,762

II. SSA submitted the information collection below to OMB for clearance. Your comments regarding the information collection would be most useful if OMB and SSA receive them within 30 days from the date of this publication. To be sure we consider your comments, we must receive them no later than March 15, 2012. Individuals can obtain copies of the OMB clearance package by calling the SSA Reports Clearance Officer at 410-965-8783 or by writing to the above email address.

Application for Extra Help With Medicare Prescription Drug Plan Costs—20 CFR 418.310—0960-0696

The Medicare Modernization Act of 2003 mandated the creation of the Medicare Part D prescription drug coverage program and the provision of subsidies for eligible Medicare beneficiaries. SSA uses Form SSA-1020 and the i1020, the Application for Extra Help with Medicare Prescription Drug Plan Costs, to obtain income and resource information from Medicare beneficiaries and to make a subsidy decision. The respondents are Medicare beneficiaries applying for the Part D low-income subsidy.

Type of Request: Revision of an OMB-approved information collection.

Collection instrument | Number of responses | Frequency of response | Average Burden per Response (minutes) | Estimated total annual burden (hours)
SSA-1020 (paper application form) | 724,238 | 1 | 30 | 362,119
i1020 (online application) | 409,189 | 1 | 25 | 170,495
Field office interview | 278,613 | 1 | 30 | 139,307
Totals | 1,412,040 |  |  | 671,921

Dated: February 8, 2012.
Faye Lipsky,
Reports Clearance Officer, Office of Regulations and Reports Clearance, Social Security Administration.

[FR Doc. 2012-3291 Filed 2-13-12; 8:45 am]

BILLING CODE 4191-02-P